DEPARTMENT OF COMMERCE

National Oceanic and Atmospheric Administration

RIN 0648-XB054

Endangered Species; File No. 16598

AGENCY: National Marine Fisheries Service (NMFS), National Oceanic and Atmospheric Administration (NOAA), Commerce.

ACTION: Issuance of permit.

SUMMARY: Notice is hereby given that Inwater Research Group, Inc. (Responsible Party and Principal Investigator: Michael Bresette), 4160 NE. Hyline Drive, Jensen Beach, FL 34957, has been issued a permit to take green (Chelonia mydas), loggerhead (Caretta caretta), hawksbill (Eretmochelys imbricata), and Kemp's ridley (Lepidochelys kempii) sea turtles for purposes of scientific research.

ADDRESSES: The permit and related documents are available for review upon written request or by appointment in the following offices:

Permits and Conservation Division, Office of Protected Resources, NMFS, 1315 East-West Highway, Room 13705, Silver Spring, MD 20910; phone (301) 427-8401; fax (301) 713-0376; and

Southeast Region, NMFS, 263 13th Ave. South, St. Petersburg, FL 33701; phone (727) 824-5312; fax (727) 824-5309.

FOR FURTHER INFORMATION CONTACT: Amy Hapeman or Colette Cairns, (301) 427-8401.

SUPPLEMENTARY INFORMATION: On March 5, 2012, notice was published in the Federal Register (77 FR 13096) that a request for a scientific research permit to take green, loggerhead, hawksbill, and Kemp's ridley sea turtles had been submitted by the above-named organization. The requested permit has been issued under the authority of the Endangered Species Act of 1973, as amended (ESA; 16 U.S.C. 1531 et seq.) and the regulations governing the taking, importing, and exporting of endangered and threatened species (50 CFR parts 222-226).

The Permit Holder is authorized to conduct long-term research on the demographics and movements of green, loggerhead, hawksbill, and Kemp's ridley sea turtles in the Key West National Wildlife Refuge and the Big Bend of Florida. The objectives of the research are to: (1) Obtain information on sea turtle abundance, size frequencies, and sex ratios; (2) determine the genetic origin of sea turtle populations in the region; (3) continue to monitor turtle foraging habits; (4) track prevalence of fibropapilomatosis in sea turtles; (5) track green sea turtle movements west of the Marquesas Keys; and (6) identify habitat preferences of hawksbill sea turtles in the Key West National Wildlife Refuge. Up to 160 green, 160 loggerhead, 75 hawksbill, and 66 Kemp's ridley sea turtles may be captured annually for flipper and passive integrated transponder tagging, blood and tissue sampling, morphometrics, photography, and weights. A subset of sea turtles may be lavaged and/or satellite tagged. In addition to captures, researchers may conduct vessel surveys to observe and count sea turtles in the area. The permit is valid for five years.

Issuance of this permit, as required by the ESA, was based on a finding that such permit (1) Was applied for in good faith, (2) will not operate to the disadvantage of such endangered or threatened species, and (3) is consistent with the purposes and policies set forth in section 2 of the ESA.

Dated: July 5, 2012.
P. Michael Payne,
Chief, Permits and Conservation Division, Office of Protected Resources, National Marine Fisheries Service.

[FR Doc. 2012-16829 Filed 7-9-12; 8:45 am]

BILLING CODE 3510-22-P